ENVIRONMENTAL PROTECTION AGENCY

[CERCLA-10-2020-0105; FRL-10013-76-Region 10]

Proposed CERCLA Administrative Cashout Settlement; S.C. Breen Construction Company

AGENCY: Environmental Protection Agency (EPA).

ACTION: Notice; request for public comment.

SUMMARY: In accordance with Section 122(i) of the Comprehensive Environmental Response, Compensation, and Liability Act., as amended (“CERCLA”), notice is hereby given of a proposed administrative settlement for recovery of past and projected future response costs concerning the Hamilton/Labree Roads Groundwater Contamination Site in Chehalis, Washington, with the following settling party: S.C. Breen Construction Company. The settlement requires the settling party to pay $3,250,000 to the Hazardous Substance Superfund. The settlement includes a covenant not to sue the settling party. For thirty (30) days following the date of publication of this document, the Agency will receive written comments relating to the settlement. The Agency will consider all comments and may modify or withdraw its consent to the settlement if comments received disclose facts or considerations which indicate that the settlement is inappropriate, improper, or inadequate. The Agency's response to any comments received will be available electronically for public inspection at https://www.regulations.gov.

DATES: Comments must be submitted on or before September 30, 2020.

ADDRESSES: The proposed settlement is available electronically for public inspection at https://www.regulations.gov. Submit your comments, identified by EPA Docket No. CERCLA-10-2020-0105, by one of the following methods:

• https://www.regulations.gov. Follow on-line instructions for submitting comments. Once submitted, comments cannot be edited or removed from Regulations.gov. EPA may publish any comment received to its public docket. Do not submit electronically any information you consider to be Confidential Business Information (“CBI”) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

• Email: Andrea Lindsay, Community Involvement Coordinator, at lindsay.andrea@epa.gov.

• Written comments submitted by mail are temporarily suspended, and no hand deliveries will be accepted. We encourage the public to submit comments via https://www.regulations.gov.

Instructions: Direct your comments to EPA Docket No. CERCLA-10-2020-0105. EPA's policy is that all comments received will be included in the public docket without change and may be made available online at https://www.regulations.gov, including any personal information provided, unless the comment includes information claimed to be CBI or other information whose disclosure is restricted by statute. Do not submit information that you consider to be CBI or otherwise protected through https://www.regulations.gov or email. The https://www.regulations.gov website is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the https://www.regulations.gov index. Although listed in the index, some information is not publicly available, e.g., CBI or other information whose disclosure is restricted by statute. Certain other material, such as copyrighted material, will be publicly available only in the hard copy. Publicly available docket materials are available electronically in https://www.regulations.gov.

EPA is temporarily suspending its Docket Center and Regional Records Centers for public visitors to reduce the risk of transmitting COVID-19. In addition, many site information repositories are closed, and information in these repositories, including the deletion docket, has not been updated with hardcopy or electronic media. For further information and updates on EPA Docket Center services, please visit us online at https://www.epa.gov/dockets.

EPA continues to carefully and continuously monitor information from the Centers for Disease Control and Prevention (CDC), local area health departments, and our Federal partners so that we can respond rapidly as conditions change regarding COVID.

FOR FURTHER INFORMATION CONTACT: Robert Tan, Remedial Project Manager, U.S. Environmental Protection Agency, Region 10, 1200 Sixth Avenue, Suite 155, 12-D12-1, Seattle, WA 98101, (206) 553-2580, email: Tan.Robert@epa.gov; and/or Nick Vidargas, Attorney Advisor, U.S. Environmental Protection Agency, Region 10, 1200 Sixth Avenue, Suite 155, 11-09, Seattle, WA 98101, (206) 553-1460, email: Vidargas.Nick@epa.gov.

SUPPLEMENTARY INFORMATION: This settlement is entered into pursuant to the authority under section 122(h)(1) of CERCLA, 42 U.S.C. 9622(h)(1), to settle claims under section 107 of CERCLA, 42 U.S.C. 9607, with the prior written approval of the Attorney General. The settlement agreement provides for payment of $3,250,000 from the settling party to the Site's Hazardous Substance Superfund special account, to be used towards remedial actions at the Site. The settlement also includes a covenant not to sue the settling party pursuant to sections 106 and 107(a) of CERCLA, 42 U.S.C. 9606 and 9607(a).

Authority: 42 U.S.C. 9601-9657.

Dated: August 25, 2020.
Calvin Terada,
Division Director, Superfund and Emergency Management Division, Region 10.

[FR Doc. 2020-19081 Filed 8-28-20; 8:45 am]

BILLING CODE 6560-50-P